DEPARTMENT OF LABOR

Employment and Training Administration

[TA-W-50,462]

Micro Component Technology; St. Paul, MN; Notice of Termination of Investigation

Pursuant to section 221 of the Trade Act of 1974, as amended, an investigation was initiated on January 6, 2003, in response to a worker petition filed by a community representative on behalf of workers at Micro Component Technology, St. Paul, Minnesota.

The petitioning group of workers is covered by an active certification issued on January 10, 2003, and which remains in effect (TA-W-50,394). Consequently, further investigation in this case would serve no purpose and the investigation has been terminated.

Signed in Washington, DC this 14th day of January, 2003.
Richard Church,
Certifying Officer, Division of Trade Adjustment Assistance.

[FR Doc. 03-2558 Filed 2-3-03; 8:45 am]

BILLING CODE 4510-30-P